DEPARTMENT OF HEALTH AND HUMAN SERVICES

National Institutes of Health

NIH State-of-the-Science Conference: Preventing Alzheimer's Disease and Cognitive Decline; Notice

Notice is hereby given by the National Institutes of Health (NIH) of the “NIH State-of-the-Science Conference: Preventing Alzheimer's Disease and Cognitive Decline” to be held April 26-28, 2010, in the NIH Natcher Conference Center, 45 Center Drive, Bethesda, Maryland 20892. The conference will begin at 8:30 a.m. on April 26 and 27 and at 9 a.m. on April 28, and it will be open to the public.

For many older adults, cognitive health and performance remain stable over the course of their lifetime, with only a gradual and slight decline in short-term memory and reaction times. But for others, this normal, age-related decline in cognitive function progresses into a more serious state of cognitive impairment or into various forms of dementia, including Alzheimer's disease. Such loss of cognitive function—the ability to think, learn, remember, and reason—substantially interferes with everyday function. As researchers continue to explore changes in the brain that take place possibly decades before cognitive decline and dementia symptoms appear, they also hope to discover more about the relationship between normal age-related cognitive decline and the development of cognitive impairment or Alzheimer's disease.

Alzheimer's disease was first described in 1906, when German psychiatrist and neuropathologist Alois Alzheimer observed the hallmarks of the disease in the brain of a female patient who had experienced memory loss, language problems, and unpredictable behavior: abnormal clumps of protein (now called beta-amyloid plaques) and tangled bundles of protein fibers (now called neurofibrillary tangles). Today, an estimated 2.5 to 4.5 million Americans are living with Alzheimer's, the most common form of dementia, and those numbers are expected to grow with the aging of the baby boomer population. Age is the strongest known risk factor for Alzheimer's, with most people diagnosed with the late-onset form of the disease over age 60. An early-onset, familial form also occurs, but is very rare. The time from diagnosis to death with Alzheimer's ranges from as little as 3 years to 10 or more, depending on the person's age, sex, and the presence of other health problems.

In addition to investigating the causes and potential treatments for Alzheimer's and other dementias, researchers are focused on finding ways to prevent cognitive decline. Many preventive measures for cognitive decline and for preventing Alzheimer's—mental stimulation, exercise, and a variety of dietary supplements—have been suggested, but their value in delaying the onset and/or reducing the severity of decline or disease is unclear. Questions also remain as to how the presence of certain conditions, such as high cholesterol, high blood pressure, and diabetes, influence an individual's risk of cognitive decline and Alzheimer's disease.

To examine these important questions about Alzheimer's and cognitive decline in older people, the National Institute on Aging and the Office of Medical Applications of Research of the NIH will convene a State-of-the-Science Conference from April 26 to 28, 2010, to assess the available scientific evidence related to the following questions:

• What factors are associated with the reduction of risk of Alzheimer's disease?

• What factors are associated with the reduction of risk of cognitive decline in older adults?

• What are the relationships between the factors that affect Alzheimer's disease and the factors that affect cognitive decline?

• What are the therapeutic and adverse effects of interventions to delay the onset of Alzheimer's disease?

• What are the therapeutic and adverse effects of interventions to improve or maintain cognitive ability or preserve cognitive function? Are there different outcomes in identifiable subgroups?

• If recommendations for interventions cannot be made currently, what studies need to be done that could provide the quality and strength of evidence necessary to make such recommendations to individuals?

An impartial, independent panel will be charged with reviewing the available published literature in advance of the conference, including a systematic literature review commissioned through the Agency for Healthcare Research and Quality. The first day and a half of the conference will consist of presentations by expert researchers and practitioners and open public discussions. On Wednesday, April 28, the panel will present a statement of its collective assessment of the evidence to answer each of the questions above. The panel will also hold a press telebriefing to address questions from the media. The draft statement will be published online later that day, and the final version will be released approximately six weeks later. The primary sponsors of this meeting are the NIH National Institute on Aging and the NIH Office of Medical Applications of Research.

Advance information about the conference and conference registration materials may be obtained from the NIH Consensus Development Program Information Center by calling 888-644-2667 or by sending e-mail to consensus@mail.nih.gov. The Information Center's mailing address is P.O. Box 2577, Kensington, Maryland 20891. Registration information is also available on the NIH Consensus Development Program Web site at http://consensus.nih.gov.

Please Note: The NIH has instituted security measures to ensure the safety of NIH employees, guests, and property. All visitors must be prepared to show a photo ID upon request. Visitors may be required to pass through a metal detector and have bags, backpacks, or purses inspected or x-rayed as they enter NIH buildings. For more information about the security measures at NIH, please visit the Web site at http://www.nih.gov/about/visitorsecurity.htm.

Dated: January 11, 2010.
Raynard S. Kington,
Deputy Director, National Institutes of Health.

[FR Doc. 2010-858 Filed 1-19-10; 8:45 am]

BILLING CODE 4140-01-P